DEPARTMENT OF HEALTH AND HUMAN SERVICES

Centers for Medicare & Medicaid Services

[Document Identifier: CMS-10203, CMS-10499 and CMS-10401]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by June 16, 2014.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 or Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Medicare Health Outcomes Survey (HOS); Use: The collection of Medicare HOS is necessary to hold Medicare managed care contracts accountable for the quality of care they deliver to beneficiaries. This reporting requirement allows us to obtain the information necessary for proper oversight of the Medicare Advantage program. It is critical to our mission that we collect and disseminate valid and reliable information that can be used to improve quality of care through identification of quality improvement opportunities, assist us in carrying out our oversight responsibilities, and help beneficiaries make an informed choice among health plans. Form Number: CMS-10203 (OMB control number: 0938-0701); Frequency: Yearly; Affected Public: Individuals and households; Number of Respondents: 739,959; Total Annual Responses: 244,187; Total Annual Hours: 244,187. (For policy questions regarding this collection contact Kimberly DeMichele at 410-786-4286.)

2. Type of Information Collection Request: New collection (Request for a new OMB control number); Title of Information Collection: Public Health Agency/Registry Readiness to Support Meaningful Use; Use: The Medicare and Medicaid Electronic Health Record (EHR) Incentive Programs provide incentives for the meaningful use of Certified Electronic Health Record Technology (CEHRT). We defined meaningful use as a set of objectives and measures in either Stage 1 or Stage 2 depending on how long an eligible provider has participated in the program. Both Stage 1 (3 objectives) and Stage 2 (5 objectives) of meaningful use contain objectives and measures that require eligible providers to determine the readiness of public health agencies and registries to receive electronic data from CEHRT. Public comments on the notice of proposed rulemaking for Stage 2 of meaningful use (77 FR 13697) asserted that the burden for each individual eligible provider to determine the readiness of multiple public health agencies and registries could be nearly eliminated if we were to maintain a database on the readiness of public health agencies and registries. In the final rule for Stage 2 of meaningful use (77 FR 53967), we agreed that the burden on eligible providers, public health agencies and registries would be greatly reduced and established that we would create such a database and it would serve as the definitive information source for determining public health agency and registry readiness to receive electronic data associated with the public health meaningful use objectives. The information will be made publicly available on the CMS Web site (www.cms.gov/EHRincentiveprograms) in order to provide a centralized repository of this information to eligible providers and eliminate there multiple individual inquiries to multiple public health agencies and registries. Form Number: CMS-10499 (OMB control number: 0938—New); Frequency: Yearly; Affected Public: Private sector—Business or other for-profits and Not-for-profit institutions; Number of Respondents: 250; Total Annual Responses: 250; Total Annual Hours: 83. (For policy questions regarding this collection contact Kathleen Connors de Laguna at 410-786-2256.)

3. Type of Information Collection Request: Revision of a currently approved collection; Title of Information Collection: Standards Related to Reinsurance, Risk Corridors, Risk Adjustment, and Payment Appeals; Use: The Affordable Care Act provides for three premium stabilization programs—a reinsurance program, a risk corridors program, and a risk adjustment program—to mitigate the negative impacts of adverse selection and market uncertainty. On March 23, 2012, we published the Premium Stabilization Rule (77 FR 17220) to implement and set standards for these premium stabilization programs. On March 11, 2013, we published the final Notice of Benefit and Payment Parameters for 2014 (“2014 Payment Notice”) (78 FR 15410), to implement requirements for various programs established by the Affordable Care Act, establish standards for the cost-sharing reduction program and the premium tax credit program, to provide for the collection of user fees from issuers to fund operations of the Federally-facilitated Exchange and the risk adjustment program in States where HHS operates risk adjustment, and to expand on standards set forth in the Premium Stabilization Rule. We published a proposed Notice of Benefit and Payment Parameters for 2015 (“2015 Payment Notice”) on December 02, 2013, to expand upon, modify, and clarify the provisions of the Premium Stabilization Rule, the 2014 Payment Notice, and the first and second final Program Integrity Rules (78 FR 54070 and 78 FR 65046).

The transitional reinsurance program and the temporary risk corridors program are designed to provide issuers with greater payment stability as insurance market reforms begin. The reinsurance program serves to reduce the uncertainty of insurance risk in the individual market in each State by making payments for high-cost enrollees. The HHS-administered risk corridors program serves to protect against rate-setting uncertainty with respect to qualified health plans by limiting the extent of issuer losses (and gains). The permanent risk adjustment program is intended to protect health insurance issuers that attract a disproportionate number of higher risk enrollees, that is, those with chronic conditions. These programs will support the effective functioning of the American Health Benefit Exchanges (“Exchanges”), which will become operational by January 1, 2014. The Exchanges are individual and small group health insurance marketplaces designed to enhance competition in the health insurance market and to expand access to affordable health insurance for millions of Americans. Individuals who enroll in qualified health plans (QHPs) through individual market Exchanges may receive premium tax credits to make health insurance more affordable and financial assistance to reduce cost sharing for health care services. The information collection requirements contained in this information collection request will enable States, HHS or both States and HHS to implement these programs, which will mitigate the impact of adverse selection in the individual and small group markets both inside and outside the Exchange.

Form Number: CMS-10401 (OMB control number: 0938-1155); Frequency: Occasionally; Affected Public: State, Local and Tribal governments, Private sector—Business or other for-profits and Not-for-profit institutions; Number of Respondents: 2,520; Total Annual Responses: 15,600,081,744; Total Annual Hours: 17,469,624. (For policy questions regarding this collection contact Jaya Ghildyal at 301-492-5149.)

Dated: May 13, 2014.
Martique Jones,
Deputy Director, Regulations Development Group, Office of Strategic Operations and Regulatory Affairs.

[FR Doc. 2014-11388 Filed 5-15-14; 8:45 am]

BILLING CODE 4120-01-P